DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for the Geary Corridor Bus Rapid Transit (BRT) Project (the project) in San Francisco, California. The project would provide bus rapid transit service along the Geary corridor from the Transbay Transit Center to 48th Avenue with dedicated bus-only lanes, higher-frequency bus service, new BRT stations, improvements to pedestrian features, and upgrades to traffic signals to optimize the bus service and transit signal priority within the project area. The purpose of this notice is to announce publicly the environmental decisions by FTA on the subject project and to activate the limitation on any claims that may challenge this final environmental action.

DATES: By this notice, FTA is advising the public of final agency actions subject to 23 U.S.C. 139(l). A claim seeking judicial review of FTA actions announced herein for the listed public transportation project will be barred unless the claim is filed on or before December 31, 2018.

FOR FURTHER INFORMATION CONTACT: Nancy-Ellen Zusman, Assistant Chief Counsel, Office of Chief Counsel, (312) 353-2577, or Alan Tabachnick, Environmental Protection Specialist, Office of Environmental Programs, (202) 366-8541. FTA is located at 1200 New Jersey Avenue SE, Washington, DC 20590. Office hours are from 9:00 a.m. to 5:00 p.m., Monday through Friday, except Federal holidays.

SUPPLEMENTARY INFORMATION: Notice is hereby given that FTA has taken final agency action by issuing a certain approval for the public transportation project listed below. The actions on the project, as well as the laws under which such actions were taken, are described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such actions were taken, including NEPA [42 U.S.C. 4321-4375], Section 4(f) requirements [23 U.S.C. 138, 49 U.S.C. 303], Section 106 of the National Historic Preservation Act [16 U.S.C. 470f], and the Clean Air Act [42 U.S.C. 7401-7671q]. This notice does not, however, alter or extend the limitation period for challenges of project decisions subject to previous notices published in the Federal Register. The project and action that is the subject of this notice follow:

Project name and location: The Geary Corridor Bus Rapid Transit (BRT) Project in San Francisco, California.

Project Sponsor: The San Francisco Municipal Transportation Authority (SFMTA), in coordination with San Francisco County Transportation Authority (SFCTA). Project description: The purpose of the Geary Corridor BRT Project is to enhance the performance, viability, and comfort level of transit and pedestrian travel along a 6.5-mile BRT corridor that connects to the Transbay Transit Center in northern San Francisco, California. The Geary corridor is a major thoroughfare, accommodating more than 50,000 daily person trips via public transit; auto volumes up to 44,000 vehicles per day; and tens of thousands of daily pedestrian trips. The project will implement BRT service with a combination of side-running and center-running bus-only lanes as well as within mixed-flow travel lanes along different segments of the 6.5-mile corridor. The project will implement higher-frequency bus service, new BRT stations, improvements to pedestrian features, and upgrades to traffic signals, including fiber-based transit signal priority to optimize bus service. Physical roadway and lane changes would occur between Market Street and 34th Avenue while bus service amenities and improvements would be provided along the Geary corridor from the Transbay Transit Center to 48th Avenue. The proposed project was the subject of the Geary Corridor Bus Rapid Transit Project Final Environmental Impact Statement (Final EIS)/Record of Decision (ROD), dated June 1, 2018. The project's notice of availability for the Final EIS was published in the Federal Register on June 15, 2018.

Final agency actions: Section 4(f) determination, dated June 1, 2018; Section 106 finding of no adverse effect on historic properties dated October 17, 2017; project-level air quality conformity; and ROD, dated June 1, 2018. Supporting documentation: The Geary Corridor Bus Rapid Transit Project Final Environmental Impact Statement (Final EIS) with Record of Decision, dated June 1, 2018.

Elizabeth S. Riklin,
Deputy Associate Administrator for Planning and Environment.

[FR Doc. 2018-16684 Filed 8-2-18; 8:45 am]

BILLING CODE P